FEDERAL MINE SAFETY AND HEALTH REVIEW COMMISSION

Sunshine Act Meetings

TIME AND DATE: 10 a.m., Tuesday, September 16, 2025.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor v. Cactus Canyon Quarries, Inc., Docket No. CENT 2022-0010 (Issues include: (1) whether the Commission's Chief Judge abused his discretion when he granted the Secretary of Labor's motion for an extension of time to file a penalty petition; (2) whether Cactus Canyon's Fairland Plant is a “mine” subject to the jurisdiction of the Secretary's Mine Safety and Health Administration pursuant to section 3(h)(1)(c) of the Mine Act, 30 U.S.C. 802(h)(1)(c); and (3) whether the Judge erred in affirming a violation of the safety standard at 30 CFR 56.12019).

Any person attending this meeting who requires special accessibility features and/or auxiliary aids, such as sign language interpreters, must inform the Commission in advance of those needs. Subject to 29 CFR 2706.150(a)(3) and 2706.160(d).

CONTACT PERSON FOR MORE INFORMATION: Rory P. Smith (202) 525-8649/(202) 708-9300 for TDD Relay/1-800-877-8339 for toll free.

Phone Number for Listening to Meeting: 1-(866) 236-7472. Passcode: 678-100.

(Authority: 5 U.S.C. 552b.)

Dated: September 3, 2025.
Rory P. Smith,
Attorney-Advisor.

[FR Doc. 2025-17072 Filed 9-3-25; 4:15 pm]

BILLING CODE 6735-01-P